DEPARTMENT OF AGRICULTURE

Agricultural Marketing Service

7 CFR Part 917

[Docket No. FV02-916-1C IFR)

Nectarines and Peaches Grown in California; Correction

AGENCY: Agricultural Marketing Service.

ACTION: Interim final rule; correction.

SUMMARY: This document contains a correction to the interim final rule published on April 5, 2002 (67 FR 16286), concerning nectarines and peaches grown in California. The correction is needed to exempt Peento (Donut) varieties of peaches from the weight-count standards for round varieties of peaches. The exemption was inadvertently omitted from the rule.

EFFECTIVE DATE: April 6, 2002.

FOR FURTHER INFORMATION CONTACT: Terry Vawter, Marketing Specialist, California Marketing Field Office, Marketing Order Administration Branch, Fruit and Vegetable Programs, AMS, USDA, 2202 Monterey Street, Suite 102B, Fresno, California 93721; Telephone: (559) 487-5901, Fax: (559) 487-5906; or George Kelhart, Technical Advisor, Marketing Order Administration Branch, Fruit and Vegetable Programs, AMS, USDA, 1400 Independence Ave, SW STOP 0237, Washington, DC 20250-0237, Telephone: (202) 720-2491, Fax: (202) 720-8938.

SUPPLEMENTARY INFORMATION:

Background

The interim final regulations that are the subject of this correction revised § 917.459, but inadvertently omitted paragraph (a)(6)(iii).

Need for Correction

The interim final rule as published omits revised § 917.459, paragraph (a)(6)(iii) which exempts Peento (Donut) varieties of peaches from the weight-count standards applicable to other round varieties of peaches. The additional language is needed to ensure that newly-developed and approved weight-count standards for volume-filled containers of Peento (Donut) varieties of peaches are the sole basis for the weight-count sampling of Peento varieties of peaches.

Correction

Accordingly, in FR Doc. 02-8140, published April 5, 2002 (67 FR 16286) make the following corrections.

1. On page 16296, third column, add instruction “E” immediately following instruction “D” as stated below.

E. Paragraph (a)(6)(iii) is revised as follows.

2. On page 16298, first column, after the 5 asterisks following § 917.459 paragraph (a)(6) introductory text, paragraph (a)(6)(iii) is added to read as follows:

(iii) Such peaches in any container when packed other than as specified in paragraphs (a)(6)(i) and (ii) of this section are of a size that a 16-pound sample, representative of the peaches in the package or container, contains not more than 64 peaches, or if the peaches are “well matured,” not more than 73 peaches, except for Peento (Donut) varieties of peaches.

Dated: May 21, 2002.
Kenneth C. Clayton,
Acting Administrator, Agricultural Marketing Service.

[FR Doc. 02-13378 Filed 5-28-02; 8:45 am]

BILLING CODE 3410-02-P